NATIONAL SCIENCE FOUNDATION

Advisory Committee for Biological Sciences; Notice of Meeting

In accordance with the Federal Advisory Committee Act (Pub. L. 92-463, as amended), the National Science Foundation announces the following meeting:

Name and Committee Code: Advisory Committee for Biological Sciences (#1110) (Virtual).

Date and Time: October 29, 2020,10:00 a.m.-4:30 p.m.; October 30, 2020,10:00 a.m.-12:30 p.m.

Place: National Science Foundation, 2415 Eisenhower Avenue, Room E2030, Alexandria, VA 22314 (Virtual).

Due to ongoing social distancing best practices because of COVID-19 the meeting will be held virtually among the Advisory Committee members. Livestreaming will be accessible through this page: https://nsf.gov/bio/advisory.jsp.

Type of Meeting: Open.

Contact Person: Karen Cone, National Science Foundation, 2415 Eisenhower Avenue, Alexandria, VA 22314; Telephone: (703) 292-8400.

Purpose of Meeting: The Advisory Committee for the Directorate for Biological Sciences (BIO) provides advice, recommendations, and oversight concerning major program emphases, directions, and goals for the research-related activities of the divisions that make up BIO.

Agenda: Agenda items will include a directorate business update, status update on the research community's adaptations to the COVID-19 pandemic, BIO's recent investments in integration across the biological sciences, a joint session on strategies for broadening participation with the Committee on Equal Opportunities in Science and Engineering, discussion with the NSF Director, and BIO's investments in collections.

Dated: September 29, 2020.
Crystal Robinson,
Committee Management Officer.

[FR Doc. 2020-21852 Filed 10-1-20; 8:45 am]

BILLING CODE 7555-01-P